DEPARTMENT OF COMMERCE

International Trade Administration

[A-570-919]

Electrolytic Manganese Dioxide From the People's Republic of China: Preliminary Rescission of the Antidumping Duty Administrative Review; 2018-2019

AGENCY: Enforcement and Compliance, International Trade Administration, Department of Commerce.

SUMMARY: The Department of Commerce (Commerce) is preliminarily rescinding this administrative review. The period of review (POR) is October 1, 2018, through September 30, 2019. Interested parties are invited to comment on this preliminary rescission.

DATES: Applicable February 23, 2021.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On December 11, 2019, Commerce published a notice of initiation of the 2018—2019 administrative review of the antidumping duty (AD) order on electrolytic manganese dioxide (EMD) from the People's Republic of China (China) with respect to one company, Duracell (China) Limited (DCL).¹ Commerce subsequently issued an AD questionnaire, and supplemental questionnaires, to DCL and received timely responses thereto. For additional background, see the Preliminary Decision Memorandum.²

¹ See Initiation of Antidumping and Countervailing Duty Administrative Reviews, 84 FR 67712 (December 11, 2019).

² See Memorandum, “Decision Memorandum for the Preliminary Results of the 2018-2019 Antidumping Duty Administrative Review of Electrolytic Manganese Dioxide from the People's Republic of China,” dated concurrently with, and hereby adopted by, this notice (Preliminary Decision Memorandum).

Scope of the Order

The merchandise covered by the order includes all manganese dioxide (MnO2) that has been manufactured in an electrolysis process, whether in powder, chip, or plate form. Excluded from the scope are natural manganese dioxide (NMD) and chemical manganese dioxide (CMD). The merchandise subject to the order is classified in the Harmonized Tariff Schedule of the United States (HTSUS) at subheading 2820.10.00.00. While the HTSUS subheading is provided for convenience and customs purposes, the written description of the scope of the order is dispositive.

Methodology

Commerce is conducting this review in accordance with section 751(a)(1)(B) and (2) of the Tariff Act of 1930, as amended (the Act). For a full description of the methodology underlying our decision, see the Preliminary Decision Memorandum. A list of the sections in the Preliminary Decision Memorandum is attached in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and electronic versions of the Preliminary Decision Memorandum are identical in content.

Preliminary Rescission of the Antidumping Duty Administrative Review

As discussed in the Preliminary Decision Memorandum, Commerce preliminarily finds that DCL, and its U.S. affiliates, did not sell subject merchandise to unaffiliated U.S. customers during the POR and could not trace the POR entry of EMD, which was used to manufacture batteries in the United States, to particular battery sales to unaffiliated U.S. customers.³ Therefore, we are preliminarily rescinding this review, in accordance with 19 CFR 351.213(d)(3).

³ See Preliminary Decision Memorandum.

Public Comment

Interested parties are invited to comment on the preliminary results of this review. Pursuant to 19 CFR 351.309(c)(1)(ii), interested parties may submit case briefs no later than 30 days after the date of publication of this notice in the Federal Register. Rebuttal briefs, limited to issues raised in the case briefs, may be filed no later than seven days after the deadline for filing case briefs.⁴ Parties who submit case or rebuttal briefs are requested to submit with each brief: (1) A statement of the issue, (2) a brief summary of the argument, and (3) a table of authorities.⁵ Executive summaries should be limited to five pages total, including footnotes.⁶ All submissions, with limited exceptions, must be filed electronically using ACCESS.⁷ Electronically filed documents must be received successfully in their entirety by Commerce's electronic records system, ACCESS, by 5 p.m. Eastern Time (ET) on the due date. Note that Commerce has temporarily modified certain of its requirements for serving documents containing business proprietary information, until further notice.⁸

⁴ See Temporary Rule Modifying AD/CVD Service Requirements Due to COVID-19; Extension of Effective Period, 85 FR 41363 (July 10, 2020) (Temporary Rule).

⁵ See 19 CFR 351.309(c)(2) and (d)(2).

⁶ Id.

⁷ See 19 CFR 351.303.

⁸ See Temporary Rule.

Pursuant to 19 CFR 351.310(c), any interested party may request a hearing within 30 days of the date of publication of this notice in the Federal Register. If a hearing is requested, Commerce will notify interested parties of the hearing date and time. Interested parties who wish to request a hearing must submit a written request to the Assistant Secretary for Enforcement and Compliance, filed electronically via ACCESS within 30 days after the date of publication of this notice in the Federal Register. Hearing requests should contain: (1) The requestor company's name, address, and telephone number; (2) the number of hearing participants from the company; and (3) a list of the issues the company will discuss in the hearing. Issues raised in the hearing will be limited to issues covered in the case and rebuttal briefs.

Unless otherwise extended, Commerce intends to issue the final results of this review, which will include the results of its analysis of issues raised in any case and rebuttal briefs, no later than 120 days after the date these preliminary results of review are published in the Federal Register, pursuant to section 751(a)(3)(A) of the Act.

Assessment Rates

If Commerce proceeds to a final rescission of this administrative review, any suspended entries of subject merchandise from DCL will be liquidated at the rate at which they entered, which was the China-wide entity rate (i.e., 149.92 percent). If Commerce does not proceed to a final rescission of this administrative review, pursuant to section 751(a)(2)(A) of the Act and 19 CFR 351.212(b)(1), Commerce will calculate importer-specific (or customer-specific) assessment rates based on the final results of this review. However, pursuant to Commerce's practice in non-market economy cases, if Commerce does not proceed to a final rescission of this administrative review, for POR entries of EMD not related to sales reported in DCL's U.S. sales database, Commerce will instruct U.S. Customs and Border Protection (CBP) to liquidate such entries at the China-wide entity rate.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

If Commerce proceeds to a final rescission of this administrative review, DCL's cash deposit rate will continue to be the China-wide entity rate of 149.92 percent. If Commerce does not proceed to a final rescission of this administrative review, but calculates a dumping margin for DCL, Commerce will instruct CBP to collect a cash deposit upon publication of the final results of review in the Federal Register, equal to the dumping margin calculated for DCL.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these results in accordance with sections 751(a)(1) and 777(i)(1) of the Act.

Dated: February 16, 2021.
Christian Marsh,
Acting Assistant Secretary for Enforcement and Compliance.

Appendix

List of Sections in the Preliminary Decision Memorandum

I. Summary

II. Background

III. Scope of the Order

IV. Preliminary Rescission of the Review

V. Recommendation

[FR Doc. 2021-03620 Filed 2-22-21; 8:45 am]

BILLING CODE 3510-DS-P